GENERAL SERVICES ADMINISTRATION

[GSA Bulletin FTR 11-05; 2011-0002; Sequence 2]

Federal Travel Regulation (FTR); Relocation Allowances—Relocation Income Tax Allowance (RITA) Tables

AGENCY: Office of Governmentwide Policy, General Services Administration (GSA).

ACTION: Notice of a bulletin.

SUMMARY: The purpose of this notice is to inform agencies of FTR Bulletin 11-05, which provides the annual changes to the RIT allowance tables necessary for calculating the amount of a transferee's increased tax burden due to an employee's official permanent change of station is now available. FTR Bulletin 11-05 and all other FTR Bulletins can be found at http://www.gsa.gov/ftrbulletin. The RIT allowance tables are located at http://www.gsa.gov/relocationpolicy.

DATES: This notice is effective March 24, 2011.

FOR FURTHER INFORMATION CONTACT: Mr. Ed Davis, Office of Governmentwide Policy (M), Office of Travel, Transportation, and Asset Management (MT), General Services Administration at (202) 208-7638 or via e-mail at ed.davis@gsa.gov. Please cite FTR Bulletin 11-05.

SUPPLEMENTARY INFORMATION: On June 25, 2008 the General Services Administration (GSA) published FTR Amendment 2008-04 in the Federal Register (73 FR 35952) specifying that the General Services Administration (GSA) would no longer publish the RITA tables found in 41 CFR part 301-17 Appendices A through D. The tables will be published at http://www.gsa.gov/relocationpolicy.

Dated: March 21, 2011.
Janet Dobbs,
Director, Office of Travel, Transportation & Asset Mgmt.

[FR Doc. 2011-6968 Filed 3-23-11; 8:45 am]

BILLING CODE 6820-14-P